DEPARTMENT OF COMMERCE

National Oceanic and Atmospheric Administration

15 CFR Part 922

Boundary Expansion of Cordell Bank and Gulf of the Farallones National Marine Sanctuaries; Intent To Prepare Draft Environmental Impact Statement; Scoping Meetings

AGENCY: Office of National Marine Sanctuaries (ONMS), National Ocean Service (NOS), National Oceanic and Atmospheric Administration (NOAA), Department of Commerce (DOC).

ACTION: Correction.

SUMMARY: On December 21, 2012, NOAA published a notice of intent in the Federal Register to revise the boundaries of Cordell Bank and Gulf of the Farallones national marine sanctuaries. This document makes a correction to the dates of the scoping meetings. The end of the scoping period remains March 1, 2013.

DATES: NOAA will accept public comments on the notice of intent published at 77 FR 75601 (December 21, 2012) through March 1, 2013.

Dates for scoping meetings are:

(1) January 24, 2013 at the Bodega Bay Grange Hall.

(2) February 12, 2013 at the Point Arena High School.

(3) February 13, 2013 at the Gualala Community Center.

ADDRESSES: You may submit comments on this document, identified by NOAA-NOS-2012-0228, by any of the following methods:

• Electronic Submission: Submit all electronic public comments via the Federal e-Rulemaking Portal. Go to www.regulations.gov/#!docketDetail;D=NOAA-NOS-2012-0228, click the “Comment Now!” icon, complete the required fields, and enter or attach your comments.

• Mail: Maria Brown, Sanctuary Superintendent, Gulf of the Farallones National Marine Sanctuary, 991 Marine Drive, The Presidio, San Francisco, CA 94129.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous). Attachments to electronic comments will be accepted in Microsoft Word, Excel, or Adobe PDF file formats only.

FOR FURTHER INFORMATION CONTACT: Maria Brown at Maria.Brown@noaa.gov or 415-561-6622; or Dan Howard at Dan.Howard@noaa.gov or 415-663-0314.

SUPPLEMENTARY INFORMATION:

Public Scoping Meetings: NOAA intends to conduct a series of public scoping meetings to collect public comments. These meetings will be held on the following dates and at the following locations and times:

1. Bodega Bay, CA

Date: January 24, 2013.

Location: Bodega Bay Grange Hall.

Address: 1370 Bodega Avenue, Bodega Bay, CA 94923.

Time: 6 p.m.

2. Pt. Arena, CA

Date: February 12, 2013.

Location: Point Arena High School.

Address: 185 Lake Street, Point Arena, CA 95468.

Time: 6 p.m.

3. Gualala, CA

Date: February 13, 2013.

Location: Gualala Community Center.

Address: 47950 Center Street, Gualala, CA 95445.

Time: 6 p.m.

Authority: 16 U.S.C. 1431 et seq.; 16 U.S.C. 470.

Dated: December 27, 2012.
Daniel J. Basta,
Director for the Office of National Marine Sanctuaries.

[FR Doc. 2012-31655 Filed 1-8-13; 8:45 am]

BILLING CODE 3510-NK-P